DEPARTMENT OF THE INTERIOR

Bureau of Land Management

[UTUT105870323 (UTU-79768); A2407-014-004-065516; #O2509-014-004-047181.1]

Notice of Proposed Withdrawal Extension, Public Meeting and Correction of Public Land Order No. 7668 for the Utah Lake Drainage Basin and Diamond Fork Systems, Bonneville Unit of the Central Utah Project, Utah

AGENCY: Bureau of Land Management, Interior.

ACTION: Notice.

SUMMARY: The Secretary of the Interior proposes to extend Public Land Order (PLO) No. 7668, that withdrew public lands from location and entry under the United States mining laws, but not leasing under the mineral or geothermal leasing laws, subject to valid existing rights, to protect the ongoing operation, maintenance and possible future replacement of the Diamond Fork Systems of the Bonneville Unit of the Central Utah Project for an additional 20-year term. The acreage described in PLO No. 7668 has been corrected to 6,558.96 acres to reflect the official land description and two parcels identified in the PLO have been corrected as non-Federal. The lands have been and would remain open to all other uses as may by law be authorized on National Forest System (NFS) lands. This notice provides a 90-day public comment period and announces that the Bureau of Land Management (BLM) will host one virtual meeting regarding this proposal.

DATES: All comments regarding the withdrawal extension proposal must be received by May 26, 2026. The BLM hold a virtual public meeting in connection with the proposed withdrawal extension on April 9, 2026, at 5 to 6 p.m. Mountain Time (MT). The BLM will publish the date and instructions for access to the online public meeting in a local newspaper and any other additional information about the public meetings a minimum of 30 days prior to the meeting.

ADDRESSES: All comments and meeting requests should be sent to the BLM Utah State Office, Attn: Brendan Willig, 440 West 200 South, Suite 500, Salt Lake City, Utah 84101-1345 or by email at bwillig@blm.gov.

FOR FURTHER INFORMATION CONTACT: Brendan Willig, Utah State Office, by phone at (385) 835-2123. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The Department of the Interior, Central Utah Project Completion Act Office, submitted a petition/application to the Secretary of the Interior to extend PLO No. 7668 (71 FR 42661) for an additional 20-year term, subject to valid existing rights. The Secretary approved the petition; therefore, the request has become a Secretarial proposal for withdrawal extension. The legal land description for NFS lands proposed for the withdrawal extension has been corrected. While the overall footprint of the withdrawal remains unchanged, the acreage identified in PLO No. 7668 has been updated to 6,558.96 acres to align with the official land description. Additionally, two parcels originally included in the PLO have been identified as non-Federal land; however, if these parcels are subsequently acquired by the United States, they would become subject to the withdrawal. The corrected land description for the withdrawal is described as follows:

Uinta National Forest

Salt Lake Meridian, Utah

T. 7 S., R. 3 E.,

sec. 21, SW¼NE¼SW¼.

T. 9 S., R. 3 E.,

sec. 1, S½SW¼;

sec. 2, SW¼NE¼;

sec. 12, lots 1 and 2.

T. 9 S., R. 4 E.,

sec. 18, NE¼NE¼.

T. 8 S., R. 5 E.,

sec. 2, lots 9, 10, 15, and 16, N½SE¼, and SW¼SE¼;

sec. 11, W½NE¼ and W½SE¼;

sec. 14, W½NE¼ and NW¼SE¼;

sec. 22, SE¼SE¼;

sec. 28, NE¼SE¼ and S½SE¼.

T. 9 S., R. 5 E.,

sec. 25, NE¼NE¼, S½SW¼, and S½SE¼;

sec. 35, E½;

sec. 36.

T. 10 S., R. 5 E.,

sec. 2, lots 1 and 2.

T. 8 S., R. 6 E.,

sec. 32, E½, E½NW¼, and E½SW¼.

T. 9 S., R. 6 E.,

sec. 5, lot 4 and SW¼;

sec. 6, lots 1 and 2, and SE¼;

sec. 7, E½;

sec. 8, W½;

sec. 17, W½;

sec. 18, E½;

sec. 19, lots 5 thru 8 and lots 10 thru 12, E½, E½NW¼, and E½SW¼;

sec. 20, NW¼NW¼;

sec. 30;

sec. 31, lots 1 thru 10, and NE¼NW¼.

The total areas described aggregate 6,558.96 acres, in Utah County.

The following described lands are non-Federal lands originally listed in PLO No. 7668 by error and if subsequently acquired by the United States would become subject to the withdrawal:

Salt Lake Meridian, Utah

T. 9 S., R. 3 E.,

sec. 2, lot 2;

sec. 12, NE¼NW¼.

The lands described aggregate 80 acres, in Utah County.

The use of a right-of-way, interagency agreement, or cooperative agreement would not constrain nondiscretionary uses.

No water rights would be needed to fulfill the purpose of this withdrawal extension.

For a period until May 26, 2026, all persons who wish to submit comments, suggestions, or objections in connection with this proposed withdrawal extension may present their views in writing to the BLM Utah State Director at the address indicated above. Before including your address, phone number, email address, or other personal identifying information in your comment, be aware that your entire comment—including your personal identifying information—may be made publicly available at any time. While you can ask the BLM in your comment to withhold your personal identifying information from public review, we cannot guarantee the BLM will be able to do so.

The withdrawal extension proposal will be processed in accordance with the regulations set forth in 43 CFR part 2300.

(Authority: 43 U.S.C. 1714)

Thomas Heinlein,
State Director, Acting.

[FR Doc. 2026-03540 Filed 2-20-26; 8:45 am]

BILLING CODE 4332-90-P